DEPARTMENT OF COMMERCE

National Oceanic and Atmospheric Administration

National Marine Sanctuary Program Policy on Permit Applications for Artificial Reef Development

AGENCY: National Marine Sanctuary Program (NMSP), National Ocean Service (NOS), National Oceanic and Atmospheric Administration (NOAA), Commerce.

ACTION: Interim-final policy; Notice of availability; request for comments.

SUMMARY: The National Marine Sanctuary Program (NMSP) has developed a policy and permitting guidelines for applications to establish artificial reefs within National Marine Sanctuaries. The policy is being used on an interim-final basis during the public comment period. The NMSP is requesting comments on the interim-final policy and permitting guidelines.

DATES: This notice is effective as an interim-final policy as of July 18, 2003. Comments on the interim-final policy will be accepted until September 16, 2003.

ADDRESSES: You can download a copy of the interim-final policy from the NMSP's Web site at http://www.sanctuaries.nos.noaa.gov/library/library.html. You may submit comments by sending an e-mail to artificial.reefs@noaa.gov. You may also request a copy of the NMSP's interim-final policy on artificial reefs and submit written comments on the policy by contacting Debra Malek, National Marine Sanctuary Program, 1305 East West Highway (N/ORM6), 11th floor, Silver Spring, MD 20910.

FOR FURTHER INFORMATION CONTACT: Debra Malek at (301) 713-3125.

SUPPLEMENTARY INFORMATION:

Background

The National Marine Sanctuary Program (NMSP) manages a system of thirteen National Marine Sanctuaries (NMSs or Sanctuaries) that protect special, nationally significant, areas of the marine environment under the authority of the National Marine Sanctuaries Act (NMSA; 16 U.S.C. 14312 et seq.). Sanctuaries protect a variety of marine areas including coral reefs, mangrove forests, and seagrass beds in the Florida Keys National Marine Sanctuary; deep-sea canyons, kelp beds, and hardbottom habitats in the Monterey Bay National Marine Sanctuary; and historic shipwrecks in the Thunder Bay National Marine Sanctuary and Underwater Preserve.

In the last few years the NMSP has experienced an increased number of permit applications to establish artificial reefs inside NMS boundaries, particularly the Florida Keys National Marine Sanctuary. Because NMSP regulations generally prohibit placing structures on the seafloor, any individual who wishes to establish an artificial reef inside a NMS must first get approval from the NMSP through the onsite sanctuary manager.

To ensure that applications to establish artificial reefs in sancturaries are reviewed consistently and in a manner that adheres to the NMSA and NMSP regulations (15 CFR part 922), the NMSP has developed permitting guidelines specific for such applications. The NMSP's intends to apply the guidelines when considering such requests. The guidelines build on lessons learned from past experience permitting artificial reef development within sanctuaries, and applies knowledge from other sources of information. It is intended to guide decision makers as they review proposals for artificial reefs in sanctuaries. It clarifies how decision making criteria contained in NMSP regulations will be applied specifically to permit applications for artificial reef development.

Because the policy and associated permitting guidelines do not place any new requirements on permit applicants or the general public, the NMSP feels it is appropriate to begin applying the policy and guidelines immediately. The NMSP is, however, interested in receiving public comments on the policy and the associated permitting guidelines.

Richard W. Spinrad,
Assistant Administrator for Ocean Services and Coastal Zone Management.

[FR Doc. 03-18345 Filed 7-17-03; 8:45 am]

BILLING CODE 3510-NK-M